DEPARTMENT OF HEALTH AND HUMAN SERVICES

Administration for Children and Families

Submission for OMB Review; Comment Request

Proposed Projects:

Title: DHHS/ACF/OPRE Head Start Classroom-based Approaches and Resources for Emotion and Social skill promotion (CARES) project: Site Recruitment Materials.

OMB No.: New collection.

Description: The Head Start Classroom-based Approaches and Resources for Emotion and Social skill promotion (CARES) project will evaluate program enhancements within Head Start settings serving three- and four-year-old children. This project focuses on identifying the central features of effective programs to provide the information federal policy makers and Head Start providers will need if they are to increase Head Start's capacity to improve the social and emotional skills and school readiness of preschool age children. The project is sponsored by the Office of Planning, Research, and Evaluation (OPRE) of the Administration for Children and Families (ACF).

The Head Start CARES project will use a group-based randomized design to test the effects of several different evidence-based strategies designed to improve the social and emotional development of children in Head Start classrooms.

The purpose of the proposed information collection is to recruit Head Start grantees to participate in the project, through informing grantee staff about the project, soliciting their interest in participating, and collecting information to assess their programs' eligibility to participate in the project.

Respondents: Respondents will include staff in Head Start grantees and delegate agencies.

Annual Burden Estimates
Instrument | Number of respondents | Number of responses per respondent | Average burden hours per response | Total burden hours
Project Description | 40 | 1 | .5 | 20
Phone Discussion Points & Screener | 40 | 1 | 1 | 40
Discussion Guide for Site Visits | 130 | 1 | 2 | 260

Estimated Total Annual Burden Hours: 320.

Additional Information: Copies of the proposed collection may be obtained by writing to the Administration for Children and Families, Office of Planning, Research and Evaluation, 370 L'Enfant Promenade, SW., Washington, DC 20447, Attn: ACF Reports Clearance Officer. E-mail address: OPREInfoCollection@acf.hhs.gov. All requests should be identified by the title of the information collection.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, FAX: 202-395-6974, Attn: Desk Officer for ACF.

Dated: June 9, 2008.
Brendan C. Kelly,
OPRE Reports Clearance Officer.

[FR Doc. E8-13430 Filed 6-18-08; 8:45 am]

BILLING CODE 4184-01-M